POSTAL SERVICE

Privacy Act of 1974; System of Records

AGENCY: Postal Service®.

ACTION: Notice of a new system of records.

SUMMARY: The United States Postal Service® (USPS®) is proposing to create one Customer Privacy Act System of Records (SOR) 1225.000. This new SOR will formalize the Postal Service program known as USPS Operation Santa® and promote transparency.

DATES: These revisions will become effective without further notice on October 9, 2024, unless comments received on or before that date result in a contrary determination.

ADDRESSES: Comments may be submitted via email to the Privacy and Records Management Office, United States Postal Service Headquarters USPSPrivacyFedRegNotice@usps.gov. Arrangements to view copies of any written comments received, to facilitate public inspection, will be made upon request.

FOR FURTHER INFORMATION CONTACT: Janine Castorina, Chief Privacy and Records Management Officer, Privacy and Records Management Office, 202-268-2000, USPSPrivacyFedRegNotice@usps.gov.

SUPPLEMENTARY INFORMATION:

I. Background

The United States Postal Service has a long, storied history concerning letters to Santa. From cultural touchstones like Miracle on 34th Street to “Letters to Santa” holiday decorations, the notion of a child writing a letter to Santa Claus, Saint Nicolas, Papa Noel, and countless other derivations goes back generations. The Postal Service has long supported these types of programs, formalizing efforts at the turn of the 20th century, then evolving over time into what we now know as Operation Santa.

The Postal Service now seeks to expand this program further, enhancing the capability for spreading holiday cheer and keeping the spirit of the holidays alive. This SOR is drafted therefore with the goal of turning Operation Santa into a beloved, perennial program cherished by children and adults across the country. To further that end, this SOR will formalize components of Operation Santa, standardize previously disparate components, and add channels for keeping the magic alive all season long.

The USPS Operation Santa program encourages the public to adopt letters written to Santa. For 111 years this program has helped children and families have a magical holiday when they otherwise might not. USPS Operation Santa is designed to allow individuals to adopt actual letters written to Santa that are only displayed online after any personal information is redacted to protect the confidentiality and safety of the letter writer. Prescreened adopters have the opportunity to adopt and send thoughtful, heartfelt gifts anonymously. Package recipients or sender names are never revealed to program participants. This security practice of anonymity safeguards the confidentiality of participants, while preserving holiday “Santa magic.”

II. Rationale for Creation of a New USPS Privacy Act System of Records

The first goal of this SOR is to formalize the letter-writing program known as Operation Santa. Every year, thousands of individuals write and send letters to Santa through USPS. These letters are received, redacted of all identifying information, and placed for “adoption” through a USPS website. Here, members of the public have the opportunity to register, become verified, and “adopt” those letters and fulfill holiday wishes. With the creation of this SOR, USPS will formally centralize the program for adopting letters and fulfilling holiday wishes to solely within USPS headquarters, ensuring that any participants in the program are provided with the rigorous security and anonymity requirements provided by the program while also supplanting the need for individual post office locations to create their own letter-adoption program.

This SOR will also confer on USPS a higher capacity to ensure accountability under this program. This will allow U.S. Postal Inspection Service (USPIS) greater flexibility in investigating any actual or suspected misbehavior that may occur during the seasonal program. Further, this will allow USPS to refer incidents of improper disclosure by USPS employees through the proper disciplinary courses.

III. Description of the New System of Records

Pursuant to 5 U.S.C. 552a (e)(11), interested persons are invited to submit written data, views, or arguments on this proposal. A report of the proposed new System of Records has been sent to Congress and to the Office of Management and Budget for their evaluations. The Postal Service does not expect that this new system of records will have any adverse effect on individual privacy rights.

The notice for the creation of USPS SOR 1225.000, USPS Operation Santa®, is provided below in its entirety, as follows:

SYSTEM NAME AND NUMBER:

USPS 1225.000 USPS Operation Santa®.

SECURITY CLASSIFICATION:

None.

SYSTEM LOCATION:

All USPS facilities and contractor sites.

SYSTEM MANAGER(S) AND ADDRESS:

Vice President, Processing & Maintenance Operations, United States Postal Service, 475 L'Enfant Plaza SW, Washington, DC 20260.

Chief Customer and Marketing Officer and Executive Vice President, United States Postal Service, 475 L'Enfant Plaza SW, Washington, DC 20260-4016.

Chief Postal Inspector, Inspection Service, United States Postal Service, 475 L'Enfant Plaza SW, Washington, DC 20260.

Chief Information Officer and Executive Vice President, United States Postal Service, 475 L'Enfant Plaza SW, Washington, DC 20260.

AUTHORITY FOR MAINTENANCE OF THE SYSTEM:

39 U.S.C. 401, 403, 404.

PURPOSE(S) OF THE SYSTEM:

1. To administer the formal USPS letter-writing, letter-adopting, and gift-sending holiday program known as Operation Santa.

2. To allow individuals to create online accounts to view and adopt redacted letters and to fulfill gift requests on behalf of letter-writers.

3. To verify the identity of letter-adopters to ensure the safety of the program's participants.

4. To produce semi-anonymous labels for packages sent through the formal Operation Santa program.

5. To allow communication between USPS and letter-adopters regarding letters, adoption, account functionality, and marketing.

6. To provide disciplinary referrals for USPS employees related to improper disclosures of personally identifiable information.

7. To identify improper handling and improper disclosures of personally identifiable information for administrative referral and mitigation of harm to impacted individuals.

8. To allow investigation into fraud, abuse, and illegal conduct related to activity occurring during the Operation Santa seasonal program.

9. To provide an online e-commerce platform for facilitating online gift requests.

CATEGORIES OF INDIVIDUALS COVERED BY THE SYSTEM:

USPS Customers, USPS employees, USPS Contractors.

CATEGORIES OF RECORDS IN THE SYSTEM:

1. Operation Santa Participant information: Name, Email Address, Phone Number, Address.

2. Model Release information: Name, Name of Minor Child, Name of Minor Child's Guardian or Parent, Email Address, Phone Number, Individual Photograph, Social Media Handle.

3. E-commerce transaction information: Transaction ID, Order Number.

RECORD SOURCE CATEGORIES:

USPS Employees, Operation Santa Letter Participants.

ROUTINE USES OF RECORDS IN THE SYSTEM, INCLUDING CATEGORIES OF USERS AND THE PURPOSES OF SUCH USES:

Standard routine uses 1. through 7., 10., and 11. apply.

POLICIES AND PRACTICES FOR STORAGE OF RECORDS:

Automated databases, computer storage media, scanned images of letters and paper.

POLICIES OF PRACTICES FOR RETRIEVAL OF RECORDS:

Records may be retrieved by name, ZIP Code and numeric code assigned to redacted letters.

POLICIES AND PRACTICES FOR RETENTION AND DISPOSAL OF RECORDS:

Electronic records are retained until July 1st of the year following the conclusion of that season's program.

Paper records are retained until July 1st of the year following the conclusion of that season's program.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmission is protected by encryption.

RECORD ACCESS PROCEDURES

Requests for access must be made in accordance with the Notification Procedures below and USPS Privacy Act regulations regarding access to records and verification of identity under 39 CFR 266.5.

CONTESTING RECORD PROCEDURES

See Notification Procedures and Record Access Procedures.

NOTIFICATION PROCEDURES:

Individuals wanting to know if information about them is maintained in this system of records must address inquiries to their local postmasters. Individuals requesting notification must include name, address, and other identifying information in their request.

EXEMPTIONS PROMULGATED FROM THIS SYSTEM:

None.

HISTORY:

None.

Christopher Doyle,
Attorney, Ethics and Legal Compliance.

[FR Doc. 2024-20189 Filed 9-6-24; 8:45 am]

BILLING CODE 7710-12-P